DEPARTMENT OF HEALTH AND HUMAN SERVICES

45 CFR Part 5b

[Docket Number ACF-2024-0015]

RIN 0970-AD15

Privacy Act; Implementation

AGENCY: Administration for Children and Families (ACF), Department of Health and Human Services (HHS).

ACTION: Direct final rule; delay of effective date and reopening of public comment period.

SUMMARY: The Department of Health and Human Services (HHS or Department) published a direct final rule in the Federal Register on December 23, 2024, which was to become effective February 6, 2025. As a result of administrative technical issues, including an incorrect email address, HHS is reopening the public comment period with a new email address for the public to submit comments and delaying the effective date to March 21, 2025. The purpose of the direct final rule was to exempt a new Privacy Act system of records maintained by the Administration for Children and Families (ACF), Office of Refugee Resettlement (ORR), Unaccompanied Children Bureau (UCB), System No. 09-80-0323, “ORR Unaccompanied Children Bureau (UCB) Child Abuse or Neglect Investigation Records and Central Registry,” from certain requirements of the Privacy Act, in accordance with subsection (k)(2) of the Privacy Act.

DATES: The comment period for the direct final rule published at 89 FR 104450 on December 23, 2024, is reopened. Comments should be received on or before March 5, 2025. As of February 3, 2025, the effective date for the direct final rule published at 89 FR 104450 on December 23, 2024, is delayed to March 21, 2025, without further action, unless adverse comments are received. If adverse comments are received, a timely notification of withdrawal will be published in the Federal Register.

ADDRESSES: Submit comments, identified by agency name and Docket No. ACF-2024-0015, by any of the following methods:

Electronic Submissions

Submit electronic comments in the following way:

• Federal eRulemaking Portal: https://www.regulations.gov. Follow the instructions for submitting comments.

Written Submissions

Submit written submissions in the following ways:

• Mail: ORR UC Bureau Regulatory Affairs, at Administration for Children and Families, Mary E. Switzer Building, 330 C Street SW, Washington, DC 20201.

• Email: ORR UC Bureau Regulatory Affairs, at ucpolicy-regulatoryaffairs@acf.hhs.gov.

Instructions: All submissions received must include the agency name and Docket No. for this rulemaking. All comments received may be posted without change to https://www.regulations.gov, including any personal information provided.

Docket: For access to the docket to read background documents or comments received, go to https://www.regulations.gov and follow the instructions provided for conducting a search, using the docket number(s) found in brackets in the heading of this document.

FOR FURTHER INFORMATION CONTACT: Toby Biswas, ORR UC Bureau Regulatory Affairs, by phone at 202-205-4440 or by email at ucpolicy-regulatoryaffairs@acf.hhs.gov.

SUPPLEMENTARY INFORMATION: The Department published a direct final rule in the Federal Register at 89 FR 104450 on December 23, 2024. For the reasons stated in the SUMMARY, HHS is reopening the public comment period and delaying the effective date for the direct final rule.

Dorothy A. Fink,
Acting Secretary, Department of Health and Human Services.

[FR Doc. 2025-02158 Filed 1-31-25; 8:45 am]

BILLING CODE 4184-45-P